NATIONAL SCIENCE FOUNDATION

Notice of Intent to Seek Approval to Reinstate an Information Collection

AGENCY: National Science Foundation.

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by February 28, 2011 to be assured of consideration. Comments received after that date will be considered to the extent practicable.

FOR ADDITIONAL INFORMATION OR COMMENTS: Contact Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday. You also may obtain a copy of the data collection instrument and instructions from Ms. Plimpton.

SUPPLEMENTARY INFORMATION: Title of Collection: Grantee Reporting Requirements for the Industry University Cooperative Research Centers Program (I/UCRC).

OMB Number: 3145-0088.

Expiration Date of Approval: Not applicable.

Type of Request: Intent to seek approval to reinstate an information collection.

Abstract:

Proposed Project:

The Industry/University Cooperative Research Centers (I/UCRC) Program was initiated in 1973 to develop long-term partnerships among industry, academe and government. The National Science Foundation invests in these partnerships to promote research programs of mutual interest, contribute to the Nation's research infrastructure base and enhance the intellectual capacity of the engineering or science workforce through the integration of research and education. As appropriate, NSF encourages international collaborations that advance these goals within the global context.

The I/UCRC program seeks to achieve this by:

1. Contributing to the nation's research enterprise by developing long-term partnerships among industry, academe, and government;

2. Leveraging NSF funds with industry to support graduate students performing industrially relevant research; and

3. Expanding the innovation capacity of our nation's competitive workforce through partnerships between industries and universities.

4. Encouraging the nation's research enterprise to remain competitive through active engagement with academic and industrial leaders throughout the world.

The centers are catalyzed by a small investment from NSF and they are primarily supported by other private and public sector center members, with NSF taking a supporting role in the development and evolution of the I/UCRC. The I/UCRC program initially offers five-year Phase I) continuing awards. This five-year period of support allows for the development of a strong partnership between the academic researchers and their industrial and government members. After five years, centers that continue to meet the I/UCRC program requirements may request support for a second five-year (Phase II) period. These awards allow centers to continue to grow and diversify their non-NSF memberships during their Phase II period. After ten years, a Phase III award provides a third five-year award for centers that demonstrate their viability, sustainability, and which have had a significant impact on industry research as measured through annual reports, site visits, and adherence to I/UCRC requirements. Centers are expected to be fully supported by industry, other Federal agencies, and state and local government partners after fifteen-years as an I/UCRC.

The centers are catalyzed by a small investment from NSF and they are primarily supported by other private and public sector center members, with NSF taking a supporting role in the development and evolution of the I/UCRC. The I/UCRC program initially offers five-year Phase I) continuing awards. This five-year period of support allows for the development of a strong partnership between the academic researchers and their industrial and government members. After five years, centers that continue to meet the I/UCRC program requirements may request support for a second five-year (Phase II) period. These awards allow centers to continue to grow and diversify their non-NSF memberships during their Phase II period. After ten years, a Phase III award provides a third five-year award for centers that demonstrate their viability, sustainability, and which have had a significant impact on industry research as measured through annual reports, site visits, and adherence to I/UCRC requirements. Centers are expected to be fully supported by industry, other Federal agencies, and state and local government partners after fifteen-years as an I/UCRC.

Centers will be required to provide data to NSF and its authorized representatives (contractors or grantees). These data will be used for NSF internal reports, historical data, and for securing future funding for continued I/UCRC program maintenance and growth. Updates to the IUCRC database of performance indicators will be required annually. Centers will be responsible for submitting the following information after the award expires for their fiscal year of activity. The indicators are both quantitative and descriptive.

• Quantitative information from the most recently completed fiscal year such as:

○ Number and diversity of students, faculty, and industrial numbers involved in the center

○ Degrees granted to students involved in center activities

○ Amounts and sources of income to the center, and

○ Lists of patents, licenses, and publications created

• Operating budget and total funding:

○ Total funding

○ NSF I/UCRC funding received

○ Other NSF funding received

○ Additional support broken down by Industry, State, University, Other Federal, Non-Federal and other support

• Capital and in-kind support:

○ Equipment

○ Facilities

○ Personnel

○ Software

○ Other support

• Human resources:

○ Researchers (number of faculty scientists and engineers, number of non-faculty scientists and engineers)

○ Students (number of graduates, number of undergraduates)

○ Administration, number of full and part time professional and clerical staff

○ Information about broadening participation on the above with plans to increase broadening participation, if necessary

• Center director descriptors:

○ Position and rank of director

○ Status of tenure

○ Name and position of the person to whom the center director reports

○ Estimate of the percent of time the director devotes to center administration, other administration, research, teaching, other

• Center outcomes:

○ Students receiving degrees and type degree earned

○ Students hired by industry by type of degree

○ Publications

■ Number with center research

■ Number with Industrial Advisory Board Members

■ Number of presentations

• Intellectual property events:

○ Invention disclosures

○ Patent applications

○ Software copyrights

○ Patents granted and derived or both

○ Licensing agreements

○ Royalties realized

I/UCRCs will also include evaluation conducted by independent evaluators who cannot be from the department(s) with the institution(s) receiving funding for the I/UCRC award. The center evaluator will be responsible for:

○ Preparing an annual report of center activities with respect to industrial collaboration

○ Conducting a survey of all center participants to probe the participant satisfaction with center activities

○ Compiling a set of quantitative indicators determined by NSF to analyze the management and operation of the center

○ Participating in I/UCRC center and informational meetings

○ Reporting to NSF on the center's status using a checklist provided by NSF to help determine if the center is adhering to the I/UCRC policy and guidelines

○ Bi-annual reporting to NSF

○ Reporting to NSF within a month of each Industrial Advisory Board meeting on the top research highlights, technology transfer, patents, and major discoveries that demonstrate successful investments

○ Performing exit interviews to determine why members chose to withdraw from the center

○ Participating in continuous quality process improvement by providing information to the NSF I/UCRC program

Use of the Information: The data collected will be used for NSF internal reports, historical data, and for securing future funding for continued I/UCRC program maintenance and growth.

Estimate of Burden: 150 hours per center (160 sites) for fifty six centers for a total of 8400 hours.

Respondents: Industry, academic institutions; non-profit institutions; government.

Estimated Number of Responses per Report: One from each of the 160 sites.

Comments: Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: December 21, 2010.
Suzanne H. Plimpton,
Reports Clearance Officer, National Science Foundation.

[FR Doc. 2010-32514 Filed 12-27-10; 8:45 am]

BILLING CODE 7555-01-P